DEPARTMENT OF TRANSPORTATION

Pipeline and Hazardous Materials Safety Administration

Special Permit Applications

AGENCY: Office of Hazardous Materials Safety, Pipeline and Hazardous Materials Safety Administration (PHMSA), DOT.

ACTION: Notice of actions on Special Permit Applications.

SUMMARY: In accordance with the procedures governing the application for, and the processing of, special permits from the Department of Transportation's Hazardous Material Regulations (49 CFR part 107, Subpart B), notice is hereby given of the actions on special permits applications in (March to March 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on April 23, 2014.
Donald Burger,
Chief, Special Permits and Approvals Branch.

S.P. No. | Applicant | Regulation(s) | Nature of special permit thereof
MODIFICATION SPECIAL PERMIT GRANTED
11993-M | Key Safety Systems, Lakeland, FL | 49 CFR 173.301(a)(1), and 173.302a | To modify the special permit to add a Division 2.2 material.
10427-M | Astrotech Space Operations, Inc., Titusville, FL | 49 CFR 173.61(a), 173.301(g), 173.302(a), 173.336, and 177.848(d) | To modify the special permit to authorize additional launch vehicles and increase the amount of Anhydrous ammonia to 120 pounds.
10232-M | ITW Sexton, Decatur, AL | 49 CFR 173.304(d) and 173.306(a)(3) | To modify the special permit to authorize a Division 2.1 material.
10832-M | Autoliv ASP, Inc., Ogden, UT | 49 CFR 173.56(b), and 173.61(a) | To modify the special permit to remove the inner packaging requirements, remove the requirement for trays in outer packaging, and update locations where the permit may be used.
15865-M | HeliStream Inc., Costa Mesa, CA | 49 CFR 172.101 Column(9B), 172.301(c), 175.30, 175.33, Part 178, and 175.75 | To modify the special permit to authorize Class 1, 2, 4, 8, 9, and additional Class 3 materials.
14392-M | U.S. Department of Defense, Scott AFB, IL | 49 CFR 172.101 Column (10B), 176.83(a),(b) and (g), 176.84(c)(2), 176.136, 176.144(a), 172.203(a), and 172.302(c) | To modify the special permit to authorize all Government owned Maritime Prepostioning Ships to use alternative stowage.
NEW SPECIAL PERMIT GRANTED
15853-N | Praxair, Inc., Danbury, CT | 49 CFR 176.83 | To authorize the transportation in commerce of certain DOT Specification or UN certified packaging containing Division 2.1, 2.2, 2.3, 4.3, 5.1, 6.1, and Class 3 and Class 8 materials in a single Container Transport Unit (CTU) consisting of multiple compartments in lieu of segregation when transported by cargo vessel. (mode 3)
15954-N | Rooney Oilfield Services, Odessa, TX | 49 CFR 173.202, 173.203, 173.241, 173.242 and 173.243 | To authorize the manufacture, mark, and and sale of non-UN standard containers that are manifolded together within a frame and securely mounted on a truck chassis for transportation by motor vehicle. (mode 1)
15972-N | Heil Trailer International, Co., Athens, TN | 49 CFR 178.345-2, 178.346-2, 178.347-2, 178.348-2 and 178.345-3 | To authorize the manufacture, marking, sale and use of and non-DOT specification cargo tanks meeting all requirements for DOT 400 series cargo tanks except for the use of UNS S32101 (LDX 2101) as a material of construction and the head and shell thicknesses are less than required. (mode 1)
15980-N | Windward Aviation, Inc., Peunene, HI | 49 CFR 175.9(a) | To authorize the transportation in commerce of aviation turbine engine fuel by external load. (mode 4)
16016-N | iSi Automotive Austria GmbH, Vienna | 49 CFR 173.301, 173.302a and 173.305 | To authorize the manufacture, marking, sale and use of non-DOT specification cylinders for use in automobile safety systems. (modes 1, 2, 3, 4, 5)
16031-N | Air Rescue Systems , Ashland, OR | 49 CFR § 172.101 Column (9B), § 172.204(c)(3),§ 173.27(b)(2),§ 175.30(a)(1),§§ 172.200 and 172.301(c), Part 178 and § 175.75 | To authorize the transportation in commerce of certain hazardous materials by cargo aircraft including by external load in remote areas of the US without being subject to hazard communication requirements and quantity limitations where no other means of transportation is available. (mode 4)
EMERGENCY SPECIAL PERMIT GRANTED
15968-M | BNSF Railway, Fort Worth, TX | 49 CFR 173.318 | To authorize the transportation in commerce of liquefied natural gas in a non-specification package (tender car) >attached to a locomotive but not feeding the fuel to the locomotive from one testing location to another. (mode 2)
16089-N | Atlas Air, Inc., Miami, FL | 49 CFR 172.101 Column (9B), 172.204(c)(3), 173.27, and 175.30(a)(1) | To authorize the one-time transportation in commerce of certain explosives that are forbidden for transportation by cargo only aircraft. (mode 4)
NEW SPECIAL PERMIT WITHDRAWN
15992-N | Ledwell & Son, Enterprises, Inc., Texarkana, TX | 49 CFR 178.345-3 | To authorize the Enterprises, Inc. transportation in Texarkana, TX commerce of certain cargo tank motor vehicles that have had an appurtenance welded to the cargo tank wall without meeting the requirements of 49 CFR 178.345-3. (mode 1)
DENIED
15880-N | Request by Viking Packing Specialist Catoosa, OK, March 26, 2014. Authorizes the transportation in commerce of not more than 5 grams of Division 1.4C materials in a special shipping container.

[FR Doc. 2014-10070 Filed 5-5-14; 8:45 am]

BILLING CODE 4909-60-M